NATIONAL SCIENCE FOUNDATION

Notice of Permit Application Received Under the Antarctic Conservation Act of 1978

AGENCY: National Science Foundation.

ACTION: Notice of Permit Applications Received Under the Antarctic Conservation Act.

SUMMARY: Notice is hereby given that the National Science Foundation (NSF) has received a waste management permit application for operation of a remote field support and emergency provisions helicopter flight seeing for the Motor Vessel, Octopus for the 2006-2007 austral summer season. The application is submitted to NSF pursuant to regulations issued under the Antarctic Conservation Act of 1978.

DATES: Interested parties are invited to submit written data, comments, or views with respect to this permit application within July 9, 2008. Permit applications may be inspected by interested parties at the Permit Office, address below.

ADDRESSES: Comments should be addressed to Permit Office, Room 755, Office of Polar Programs, National Science Foundation, 4201 Wilson Boulevard, Arlington, Virginia 22230.

FOR FURTHER INFORMATION CONTACT: Dr. Polly A. Penhale, Environmental Officer at the above address or (703) 292-8030.

SUPPLEMENTARY INFORMATION: NSF's Antarctic Waste Regulation, 45 CFR part 671, requires all U.S. citizens and entities to obtain a permit for the use or release of a designated pollutant in Antarctica, and for the release of waste in Antarctica. NSF has received a permit application under this Regulation for Quark Expeditions Inc.'s vessels, Akademik Sergey Vavilov, Akademik Ioffe, and Clipper Adventurer for operation of remote field support and emergency provisions for passenger landings in Antarctica. On each landing of passengers emergency gear is taken ashore in case the weather deteriorates and passengers are required to stay ashore for an extended period. Emergency provisions include: white gas cooking fuel, car type battery for long-range VHF radio communications, food, sleeping bags, and tents. All waste products (paper, food, and human wastes) will be removed from Antarctica and properly disposed in an appropriate port of disembarkation. In the event of an accidental fuel spill, all contaminated snow and or soil will be removed. in accordance with Antarctic waste regulations.

Application for the permit is made by: Erica Wikander, Environmental Officer, Quark Expeditions, Inc., 47 Water Street, Norwalk, CT 06854.

Location: Antarctic Peninsula.

Dates: October 1, 2008 to March 31, 2013.

Nadene G. Kennedy,
Permit Officer.

[FR Doc. E8-12786 Filed 6-6-08; 8:45 am]

BILLING CODE 7555-01-P